Proclamation 7867 of February 1, 2005

Centennial of the Forest Service, 2005

By the President of the United States of America

A Proclamation

In 2005, the Department of Agriculture's Forest Service celebrates a century of service to our Nation. After President Theodore Roosevelt established the Forest Service as part of the Department of Agriculture in 1905, Secretary of Agriculture James Wilson wrote to the First Chief of the Forest Service, Forester Gifford Pinchot, that “all land is to be devoted to its most productive use for the permanent good of the whole people.” The Forest Service has now upheld this noble charge for 100 years, and America's forests remain vibrant because of the hard work and dedication of our foresters.

Beyond serving as places for recreation, our forests are also sources of paper products, building materials, chemicals, and many other resources that drive our economy. Over the last century, the Forest Service has combined this ethic of good stewardship with sound science and a spirit of innovation to cultivate and sustain our forests in ways that benefit our entire society.

Today, Americans continue to be responsible stewards of national forests and grasslands. Through the commonsense management approach of my Healthy Forests Initiative, the Forest Service is working with State and local governments, tribes, and other Federal agencies to help prevent destructive wildfires, return forests to a healthier, natural condition, and maintain a full range of forest types. The Forest Service is also providing important work, education, and job training to citizens in need. This commitment to “Caring for the Land and Serving People” contributes to our country's success in conserving our environment and ensuring that our natural resources remain sources of pride for our citizens, our communities, and our Nation.

NOW, THEREFORE, I, GEORGE W. BUSH, President of the United States of America, by virtue of the authority vested in me by the Constitution and laws of the United States, do hereby proclaim February 1, 2005, as the Centennial of the Forest Service of the Department of Agriculture. I call upon the people of the United States to recognize this anniversary with appropriate programs, ceremonies, and activities in honor of the Forest Service's contributions to our country.

IN WITNESS WHEREOF, I have hereunto set my hand this first day of February, in the year of our Lord two thousand five, and of the Independence of the United States of America the two hundred and twenty-ninth.

B

[FR Doc. 05-2326

Filed 2-4-05; 8:45 am]

Billing code 3195-01-P